DEPARTMENT OF TRANSPORTATION

Federal Aviation Administration

14 CFR Part 120

[Docket No. FAA-2012-1058; Notice No. 14-02]

RIN 2120-AK09

Drug and Alcohol Testing of Certain Maintenance Provider Employees Located Outside of the United States; Extension of Comment Period

AGENCY: Federal Aviation Administration (FAA), DOT.

ACTION: Advance Notice of Proposed Rulemaking (ANPRM); Extension of comment period.

SUMMARY: This action extends the comment period for an Advance Notice of Proposed Rulemaking (ANPRM) that was published on March 17, 2014. In that document, the FAA sought input on its intent to amend the FAA's drug and alcohol testing regulations to require drug and alcohol testing of certain maintenance personnel outside of the United States. Airlines for America (A4A), the International Air Transport Association (IATA), and Deutsche Lufthansa AG (Lufthansa) have requested that the FAA extend the comment period closing date to allow time for commenters to adequately analyze the ANPRM and prepare comments.

DATES: The comment period for the ANPRM published on March 17, 2014 (79 FR 14621), was scheduled to close on May 16, 2014, and is extended until July 17, 2014.

ADDRESSES: You may send comments identified by docket FAA-2012-1058 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Docket: Background documents or comments received may be read at http://www.regulations.gov at any time. Follow the online instructions for accessing the docket or visit Docket Operations in Room W12-140 of the West Building Ground Floor at 1200 New Jersey Avenue SE., Washington, DC, between 9 a.m. and 5 p.m., Monday through Friday, except Federal holidays.

FOR FURTHER INFORMATION CONTACT: Valentine Castaneda, ARM-104, Office of Rulemaking, Federal Aviation Administration, 800 Independence Avenue SW., Washington, DC 20591, telephone (202) 267-9677; email val.castaneda@faa.gov.

SUPPLEMENTARY INFORMATION: See the “Additional Information” section for information on how to comment on the ANPRM and how the FAA will handle comments received. The “Additional Information” section also contains related information about the docket and the handling of proprietary or confidential business information. In addition, there is information on obtaining copies of related rulemaking documents.

Background

On March 17, 2014, the FAA issued Notice No. 14-02, entitled “Drug and Alcohol Testing of Certain Maintenance Provider Employees Located Outside of the United States” (79 FR 14621). Comments to that document were to be received on or before May 16, 2014. By letter dated March 26, 2014, A4A requested that the FAA extend the comment period for Notice No. 14-02 for 120 days. By letters dated April 8, 2014 and April 9, 2014, respectively, IATA and Lufthansa also requested a 120-day extension of the comment period. The petitioners requested the extension to secure additional time for commenters to assess the impact of the ANPRM and prepare comments.

While the FAA concurs with the petitioners' requests for an extension of the comment period, it does not support a 120-day extension. The FAA finds that providing an additional 60 days is sufficient for these petitioners and other commenters to analyze the ANPRM and provide meaningful comments.

Absent unusual circumstances, the FAA does not anticipate any further extension of the comment period for this rulemaking.

Extension of Comment Period

In accordance with § 11.47(c) of title 14, Code of Federal Regulations, the FAA has reviewed the petitions made by A4A, IATA, and Lufthansa for extension of the comment period to Notice No. 14-02. These petitioners have shown a substantive interest in the ANPRM and good cause for the extension. The FAA has determined that extension of the comment period is consistent with the public interest, and that good cause exists for taking this action.

Accordingly, the comment period for Notice No. 14-02 is extended until July 17, 2014.

Additional Information

A. Comments Invited

The FAA invites interested persons to participate in this rulemaking by submitting written comments, data, or views. The most helpful comments reference a specific portion of the ANPRM, explain the reason for any recommendations, and include supporting data. To ensure the docket does not contain duplicate comments, commenters should send only one copy of written comments, or if comments are filed electronically, commenters should submit only one time.

The FAA will file in the docket all comments it receives, as well as a report summarizing each substantive public contact with FAA personnel concerning this ANPRM. Before acting on this ANPRM, the FAA will consider all comments it receives on or before the extended closing date for comments. The FAA will consider comments filed after the comment period has closed if it is possible to do so without incurring expense or delay.

Proprietary or Confidential Business Information: Do not file proprietary or confidential business information in the docket. Such information must be sent or delivered directly to the person identified in the FOR FURTHER INFORMATION CONTACT section of this document and marked as proprietary or confidential. If submitting information on a disk or CD ROM, mark the outside of the disk or CD ROM, and identify electronically within the disk or CD ROM the specific information that is proprietary or confidential.

Under 14 CFR 11.35(b), if the FAA is aware of proprietary information filed with a comment, the agency does not place it in the docket. It is held in a separate file to which the public does not have access, and the FAA places a note in the docket that it has received it. If the FAA receives a request to examine or copy this information, it treats it as any other request under the Freedom of Information Act (5 U.S.C. 552). The FAA processes such a request under Department of Transportation procedures found in 49 CFR part 7.

B. Availability of Rulemaking Documents

An electronic copy of rulemaking documents may be obtained from the Internet by—

1. Searching the Federal eRulemaking Portal (http://www.regulations.gov);

2. Visiting the FAA's Regulations and Policies Web page at http://www.faa.gov/regulations_policies or

3. Accessing the Government Printing Office's Web page at http://www.gpo.gov/fdsys/.

Copies may also be obtained by sending a request to the Federal Aviation Administration, Office of Rulemaking, ARM-1, 800 Independence Avenue SW., Washington, DC 20591, or by calling (202) 267-9680. Commenters must identify the docket or notice number of this rulemaking.

All documents the FAA considered in developing the ANPRM, including economic analyses and technical reports, may be accessed from the Internet through the Federal eRulemaking Portal referenced in item (1) above.

Issued at Washington, DC, under the authority set forth in 49 U.S.C. 44733 on April 28, 2014.
Lirio Liu,
Director, Office of Rulemaking.

[FR Doc. 2014-09969 Filed 4-30-14; 8:45 am]

BILLING CODE 4910-13-P